DEPARTMENT OF LABOR

Employment and Training Administration

[TA-W-52,723]

W-Phone, Inc., Highlands Ranch, CO; Notice of Termination of Investigation

Pursuant to Section 221 of the Trade Act of 1974, an investigation was initiated on September 2, 2003 in response to a worker petition which was filed on behalf of workers at W-Phone, Inc., Highlands Ranch, Colorado.

All workers were separated from the subject firm more than one year before the date of the petition. Section 223(b) of the Act specifies that no certification may apply to any worker whose last separation occurred more than one year before the date of the petition. Consequently, further investigation in this case would serve no purpose, and the investigation has been terminated.

Signed in Washington, DC, this 8th day of September 2003.
Richard Church,
Certifying Officer, Division of Trade Adjustment Assistance.

[FR Doc. 03-25728 Filed 10-9-03; 8:45 am]

BILLING CODE 4510-30-P